DEPARTMENT OF COMMERCE

National Oceanic and Atmospheric Administration

50 CFR Part 648

[Docket No. 040112010-4114-02; I.D. 093004C]

Magnuson-Stevens Fishery Conservation and Management Act Provisions; Fisheries of the Northeastern United States; Northeast (NE) Multispecies Fishery; Closure of the Eastern U.S./Canada Area and Prohibition of Harvesting, Possessing, or Landing of Yellowtail Flounder from the U.S./Canada Management Area

AGENCY: National Marine Fisheries Service (NMFS), National Oceanic and Atmospheric Administration (NOAA), Commerce.

ACTION: Closure of the Eastern U.S./Canada Area and prohibition of harvesting, possessing, or landing of yellowtail flounder from the U.S./Canada Management Area.

SUMMARY: NMFS announces that the Administrator, Northeast Region, NMFS (Regional Administrator), has determined that 85 percent of the total allowable catch (TAC) of Georges Bank (GB) yellowtail flounder allocated to be harvested from the Western and Eastern U.S./Canada Areas has been harvested by October 1, 2004. To prevent the GB yellowtail flounder TAC allocation from being exceeded, the Regional Administrator is closing the Eastern U.S./Canada Area to all limited access NE multispecies days-at-sea (DAS) vessels, unless participating in a future approved Special Access Program (SAP) for which the TAC allocation for the target stock for that SAP has not been fully harvested. In addition, the Regional Administrator is prohibiting all limited access NE multispecies DAS vessels from harvesting, possessing, or landing GB yellowtail flounder from within the entire U.S./Canada Management Area, effective October 1, 2004.

DATES: Effective October 1, 2004, 2004, through April 30, 2005.

FOR FURTHER INFORMATION CONTACT: Douglas W. Christel, Fishery Policy Analyst, (978) 281-9141, fax (978) 281-9135.

SUPPLEMENTARY INFORMATION: Regulations governing the yellowtail flounder landing limit within the Western and Eastern U.S./Canada Areas are found at 50 CFR 648.85(a)(3)(iv)(C). The regulations authorize vessels issued a valid limited access NE multispecies permit and fishing under a NE multispecies DAS to fish in the U.S./Canada Management Area, under specific conditions. The TAC allocation for GB yellowtail flounder for the 2004 fishing year was specified at 6,000 mt in the final rule implementing Amendment 13 to the NE Multispecies Fishery Management Plan (FMP) (April 27, 2004, 69 FR 22906). Once 30 percent and/or 60 percent of the TAC allocations specified for the U.S./Canada Management Area are projected to have been harvested, the regulations at § 648.85(a)(3)(iv)(D) authorize the Regional Administrator to modify or close access to the Eastern U.S./Canada Area to all limited access NE multispecies DAS vessels and prohibit all limited access NE multispecies DAS vessels from harvesting, possessing, or landing GB yellowtail flounder from the entire U.S./Canada Management Area to prevent over-harvesting the yellowtail flounder TAC allocation.

Based upon Vessel Monitoring System reports and other available information, the Regional Administrator has determined that 85 percent of the GB yellowtail flounder TAC of 6,000 mt has been harvested by October 1, 2004. Due to concerns regarding expected yellowtail flounder bycatch by vessels targeting groundfish other than yellowtail flounder within the U.S./Canada Management Area and the potential impact of scallop vessels fishing in Closed Area II under the Sea Scallop Access Program proposed under Framework 16/39 to the Atlantic Sea Scallop and NE Multispecies FMPs, respectively, the Regional Administrator is closing the Eastern U.S./Canada Area to all limited access NE multispecies DAS vessels, unless they are participating in a future approved SAP for which the TAC allocation for the target stock for that SAP has not been fully harvested. In addition, the Regional Administrator is prohibiting all limited access NE multispecies DAS vessels from harvesting, possessing, or landing GB yellowtail flounder from the entire U.S./Canada Management for the remainder of the fishing year, effective October 6, 2004. This action is being taken at this time to ensure that the TAC for GB yellowtail flounder will not be exceeded during the 2004 fishing year.

Classification

This action is required by 50 CFR part 648 and is exempt from review under Executive Order 12866.

Authority: 16 U.S.C. 1801 et seq.

Dated: September 30, 2004.
Alan D. Risenhoover,
Acting Director, Office of Sustainable Fisheries, National Marine Fisheries Service.

[FR Doc. 04-22481 Filed 10-1-04; 3:29 pm]

BILLING CODE 3510-22-S